FEDERAL TRADE COMMISSION

16 CFR Part 305

RIN 3084-AB15

Energy Labeling

AGENCY: Federal Trade Commission (“FTC” or “Commission”).

ACTION: Notice of proposed rulemaking.

SUMMARY: The Commission proposes amendments to the Energy Labeling Rule to create requirements related to a new label database on the Department of Energy's (DOE's) Web site, redesign ceiling fan labels, improve and update the comparability ranges for refrigerator labels, revise central air conditioner labels in response to new DOE enforcement requirements, improve water heater labels, and update current plumbing disclosures.

DATES: Written comments must be received on or before January 11, 2016.

ADDRESSES: Interested parties may file a comment online or on paper, by following the instructions in the Request for Comment part of the SUPPLEMENTARY INFORMATION section below. Write “Energy Labeling Amendments (16 CFR part 305) (Project No. R611004)” on your comment, and file your comment online at https://ftcpublic.commentworks.com/ftc/energylabeling, by following the instructions on the web-based form. If you prefer to file your comment on paper, mail your comment to the following address: Federal Trade Commission, Office of the Secretary, 600 Pennsylvania Avenue NW., Suite CC-5610 (Annex E), Washington, DC 20580, or deliver your comment to the following address: Federal Trade Commission, Office of the Secretary, Constitution Center, 400 7th Street SW., 5th Floor, Suite 5610 (Annex E), Washington, DC 20024.

FOR FURTHER INFORMATION CONTACT: Hampton Newsome, Attorney, (202) 326-2889, Division of Enforcement, Bureau of Consumer Protection, Federal Trade Commission, 600 Pennsylvania Avenue NW., Washington, DC 20580.

SUPPLEMENTARY INFORMATION:

I. Background

The Commission issued the Energy Labeling Rule (“Rule”) in 1979,¹ pursuant to the Energy Policy and Conservation Act of 1975 (EPCA).² The Rule requires energy labeling for major home appliances and other consumer products to help consumers compare competing models. It also contains labeling requirement for refrigerators, refrigerator-freezers, freezers, dishwashers, water heaters, clothes washers, room air conditioners, furnaces, central air conditioners, heat pumps, plumbing products, lighting products, ceiling fans, and televisions.

¹ 44 FR 66466 (Nov. 19, 1979) (Rule's initial promulgation).

² 42 U.S.C. 6294. EPCA also requires DOE to develop test procedures that measure how much energy appliances use, and to determine the representative average cost a consumer pays for different types of energy.

The Rule requires manufacturers to attach yellow EnergyGuide labels for many of the covered products and prohibits retailers from removing the labels or rendering them illegible. In addition, it directs sellers, including retailers, to post label information on Web sites and in paper catalogs from which consumers can order products. EnergyGuide labels for most covered products contain three key disclosures: estimated annual energy cost; a product's energy consumption or energy efficiency rating as determined from Department of Energy (DOE) test procedures; and a comparability range displaying the highest and lowest energy costs or efficiency ratings for all similar models. For energy cost calculations, the Rule specifies national average costs for applicable energy sources (e.g., electricity, natural gas, oil) as calculated by DOE. Under the Rule, the Commission periodically updates comparability range and annual energy cost information based on manufacturer data submitted pursuant to the Rule's reporting requirements.³

³ 16 CFR 305.10.

II. Proposed Amendments to the Energy Labeling Rule

This Notice seeks comment on several proposed changes to the Energy Labeling Rule, including requirements related to a new label database on DOE's Web site, revised ceiling fan labels, new refrigerator comparability range information, portable air conditioner labeling, labeling for dual-mode refrigerators, revised central air conditioner labels in response to proposed changes to DOE's enforcement rules, water heater labels, and plumbing disclosures. The Commission sought comment on a few of these issues during its regulatory review of the Energy Labeling Rule.⁴ Other issues discussed in this Notice reflect recent developments from DOE rulemakings and the consumer product marketplace.

⁴ See 77 FR 15298 (Mar. 15, 2012); and 79 FR 34642 (June 18, 2014).

A. Online Label Database

Background: In a June 18, 2014 Supplemental Notice of Proposed Rulemaking (SNPRM) (79 FR 34642), the Commission sought comments on the development of a centralized label database to provide retailers and consumers with convenient access to energy labels.⁵ To populate the database, the FTC proposed requiring manufacturers to submit URL links for labels to the DOE Compliance and Certification Management System (CCMS) database. The current rule already requires manufacturers to post product labels on their own sites.⁶ The Commission explained that a new label repository at the DOE site would benefit consumers and retailers. Consumers would have access to a single comprehensive database at the DOE Web site containing label images for covered products. Online retailers would have access to digital labels for advertising or label replacement, without having to obtain the labels from individual manufacturers.⁷

⁵ The comments received in response to the 2014 SNPRM are here: https://www.ftc.gov/policy/public-comments/initiative-569. The comments included: Air-Conditioning, Heating, and Refrigeration Institute (#00016); Alliance Laundry Systems LLC (#00010); Amazon (#00005); American Lighting Association (#00009); American Gas Association (#00013); American Public Gas Association (#00012); Association of Home Appliance Manufacturers (#00014); Direct Marketing Association (#00007); Earthjustice (“Joint Commenters”) (#00017); Energy Solutions (#00018); Glickman (#00002); Goodman Global, Inc. (#00008); Laclede Gas (#00011); National Electrical Manufacturers Association (#00006); Nicholas (#00003); Plumbing Manufacturers International (#00004); Republic of Korea (#00019); and Whirlpool Corporation (#00015).

⁶ As explained in an earlier Notice, this requirement would not apply to private labelers, but manufacturers would be allowed to arrange with third parties, including private labelers, to display the labels and to submit the required links to CCMS. See 78 FR 2200, 2205 (Jan. 10, 2013).

⁷ In January 2013, the Commission amended the Rule to require manufacturers to make copies of their EnergyGuide and Lighting Facts labels available on a publicly accessible Web site. See 78 FR at 2205. In doing so, the Commission aimed to improve the availability of online labels for retailers that sell covered products online.

The Commission predicted that the proposal would not create undue burdens because the DOE and FTC rules already require manufacturers of most covered products to submit annual reports through CCMS.⁸ Additionally, manufacturers must display their labels online under the FTC rules. Accordingly, a manufacturer could simply add a link on CCMS to its Web page displaying the label.⁹

⁸ 10 CFR 429.12.

⁹ Because the proposed CCMS database would link to manufacturers' label Web pages, the Commission did not propose eliminating requirements related to such Web pages. Doing so would likely impose greater technical maintenance and coordination burdens on both DOE and manufacturers.

Comments: The comments submitted in response to the SNPRM offered different views on the proposed database.¹⁰ Several, including the Joint Commenters, the California Utilities, online retailers, and heating and cooling manufacturers supported the concept but offered several implementation suggestions. Other industry members opposed the proposal.

¹⁰ The comments are available at https://www.ftc.gov/policy/public-comments/initiative-569.

In supporting the proposal, the Joint Commenters explained that a centralized database will likely reduce the time manufacturers spend fielding requests about label information and retailers spend complying with online label requirements. The California Utilities added that the central database will benefit many different market actors, including consumers, distributors, retailers, and organizations running energy efficiency incentive programs. According to the California Utilities, it would also help state agencies and efficiency organizations track compliance with various efficiency performance and labeling requirements. Amazon and the Direct Marketing Association (DMA) further explained that the proposal would increase overall industry efficiency by reducing the time retailers spend identifying and obtaining the correct EnergyGuide labels. This would allow retailers to make new products available to consumers and to complete internal compliance audits of their catalogues faster and at lower cost. Amazon and DMA also expect the database to encourage general compliance with the Rule, decrease instances of mislabeling, minimize retailer burdens, and increase label availability. DMA noted that manufacturers must already publish EnergyGuide labels on publicly accessible Web sites. Amazon agreed, explaining that the proposal would not place an undue burden on manufacturers who already publish EnergyGuide labels on publicly accessible Web sites and have open lines of electronic communication with CCMS.

The Air-Conditioning, Heating, and Refrigeration Institute (AHRI) and Goodman, from the heating and cooling equipment industry, also supported an online database. AHRI already includes label images on its own online directory for the heating and cooling equipment of its members. However, because its database displays labels in PDF format, it recommended that DOE or the FTC allow PDF files, in addition to URL links. Goodman recommended that the FTC rely on the EnergyGuide labels already generated by the AHRI database rather than requiring manufacturers to submit this information.

The Association of Home Appliance Manufacturers (AHAM) and the National Electrical Manufacturers Association (NEMA) opposed the proposal, identifying several concerns. First, according to AHAM, because manufacturers often certify new models to DOE before they design and post labels on their Web sites, a new submission requirement could complicate existing reporting. Specifically, AHAM suggested that posting labels to the DOE Web site prior to certification may run afoul of DOE and EPA restrictions on marketing prior to government certification. AHAM further argued that the proposal would yield little benefit because neither consumers nor retailers use CCMS to shop for products and existing FTC requirements already require the labels on manufacturer Web sites. According to AHAM, a URL link would also increase burdens by forcing some manufacturers to redesign their Web pages, which may not currently use separate links to display products. It may also require burdensome coordination with private labelers. Finally, AHAM argued that the frequent need to report information could lead to errors on the DOE Web site that could subject manufacturers to civil penalties. NEMA echoed AHAM's concerns, stating the database requirement would make it difficult for manufacturers to ensure they update the links over time. NEMA asserted that the average consumer will not view the CCMS database for label information but rather will look to a company Web site first. Likewise, manufacturers already maintain their own databases, so the CCMS database is not necessarily useful.

Discussion: To create a comprehensive label database, the Commission proposes to require manufacturers and private labelers to submit links to their EnergyGuide and Lighting Facts labels through their routine report to the DOE's CCMS pursuant to § 305.8.¹¹

¹¹ The proposed requirement stems from EPCA's mandate that manufacturers “provide” a label, the Commission's general authority to require manufacturers to submit information, and the Commission's authority to specify the manner in which labels are displayed. 42 U.S.C. 6296(a) and (b); 42 U.S.C. 6294(c)(3).

As discussed in the 2014 SNPRM and indicated by commenters, such a repository should benefit consumers and retailers by providing access to a single comprehensive database that contains all the covered labels. Retailers can use the data for advertising and to replace missing labels for their display models. Consumers will be able to easily research comparative efficiency. Although consumers and retailers may not currently use CCMS extensively, the presence of label links should significantly increase consumer and retailer use of this resource.

The proposal is unlikely to create undue burdens on manufacturers. The Rule already requires manufacturers of most covered products to submit annual reports. DOE likewise requires manufacturers to make detailed electronic submissions through CCMS.¹² Additionally, manufacturers must display their labels online. The inclusion of URL links in those reports should not add significant burden to those existing requirements because a manufacturer could simply add a link on CCMS to its Web page displaying the label. In other words, the only additional burden upon manufacturers would be to add URL links to existing Web pages and to delete links when removing or replacing the corresponding Web pages. Finally, although AHRI requested that the Web site accommodate pdf file submissions, the Commission expects that AHRI, with adequate notice, can easily generate web links to those pdf files.

¹² 10 CFR 429.12.

In addition, manufacturers will be able to incorporate the link submissions into their current reporting. The proposed rule requires that manufacturers submit the label links prior to distributing the products in commerce, consistent with current labeling requirements. Thus, the proposal is unlikely to require manufacturers to submit such information earlier. Although AHAM and NEMA suggested such an approach may run afoul of DOE and EPA certification requirements, it is not clear how this would occur. Nevertheless, the Commission seeks further comment on this issue. In addition, though some manufacturers may have to make modest changes to their Web sites to create links for their labels, any final rule would give them ample time to do so and thus minimize any burden associated with the change. Finally, it is not clear how the proposal would create submission errors beyond those that already occur with current submission requirements. The possibility of submission errors should be low because manufacturers will include their label links as part of the model certification reports they already submit to CCMS.

The Commission seeks comments on this proposal. Among other things, comments should address whether manufacturers should provide label links for specialty consumer lamps and LED (light-emitting diode) general service lamps, which are not currently subject to FTC or DOE reporting requirements.

B. Improved Ceiling Fan Labels

Background: In the 2014 SNPRM (79 FR 34642, June 18, 2014), the Commission proposed changing the ceiling fan label to include estimated annual energy cost information as the primary disclosure and to otherwise make the label consistent with other EnergyGuide labels. The current label, which appears on product boxes and bears the title “Energy Information,” discloses airflow (cubic feet per minute), energy use (watts), and energy efficiency (cubic feet per minute per watt) at high speed. However, as the Commission previously stated, consumer research suggests energy cost information best serves consumers because it “provides a clear, understandable tool to allow consumers to compare the energy performance of different models.” ¹³

¹³ 72 FR 49948, 49959 (Aug. 29, 2007) (appliance labels); see also 75 FR 41696 (July 19, 2010) (light bulb labels); 76 FR 1038 (Jan. 6, 2011) (television labels).

The proposed label follows the EnergyGuide label format, consistent with other products displayed in showrooms, such as refrigerators and clothes washers. The proposed yellow label features the familiar “EnergyGuide” logo and includes a daily use assumption of six hours, an energy rate of 12 cents per kWh, and operation at high speed.¹⁴ As with existing EnergyGuide labels for appliances, the proposed label would also contain the statement “Your cost depends on rates and use.” The Commission sought further comment on the proposed label, including its content, and the necessary compliance time.

¹⁴ 78 FR 17648 (Mar. 22, 2013). In limiting the current label's disclosures to high speed operation, the Commission explained that “inclusion of information for other speed settings would clutter the label with few additional benefits” and noted comments indicating high-speed measurements reflect “the true unregulated performance of the fan.” 71 FR 78057, 78059 (Dec. 28, 2006).

After the 2014 SNPRM, DOE proposed revisions to the ceiling fan test procedure (79 FR 62521 (Oct. 17, 2014)) and new efficiency standards (79 FR 58290 (Sept. 29, 2014)). As part of that proceeding, DOE is considering setting the hours of operation to be used on the label, a representative or average speed, and a revised scope of products covered by the test procedure. Such new DOE requirements would govern much of the label's content.¹⁵

¹⁵ DOE issued a supplemental notice for the test procedure on June 3, 2015 (80 FR 31487).

Comments: The comments generally supported the proposed changes. For example, the Joint Commenters explained that a new design will increase the label's effectiveness by aligning its appearance with the familiar EnergyGuide labels. However, many commenters also urged the Commission to coordinate the timing of any revised labels with ongoing DOE efforts to change the underlying test procedure.

The American Lighting Association (ALA), an industry group representing many fan manufacturers, did not oppose label changes but offered several suggestions. First, it urged the FTC to coordinate labeling changes with DOE to avoid duplication of time, energy, and compliance costs. Second, to reduce the burden associated with relabeling thousands of models, ALA recommended a 12-month compliance period for new models and a five-year compliance period for current products, instead of the proposed blanket two-year period. ALA reasoned that, because the approximate life cycle of most models is five years or less, an extended compliance period will greatly reduce industry burden.

Finally, the ALA comments urged the Commission to reconsider the usage assumptions behind the proposed label (i.e., hours per day, operating speed, and utility rates). According to ALA, recent consumer research sponsored by industry members indicates that consumers typically run fans at medium speed (50% of consumers run fans at medium; 20% at high; and 30% at low). Given these results, ALA argued that “high-speed” cost disclosures are “grossly misleading” to consumers and significantly exaggerate actual consumer energy costs, placing an unfair and damaging perception on ceiling fan industry members compared to other heating and cooling-related products. Accordingly, ALA recommended that the label disclose costs at three speeds: low, medium and high. ALA also raised concerns about the proposed yearly cost disclosure given the wide variability in typical daily usage among consumers. Instead, ALA recommended that the label disclose an hourly cost. Alternatively, ALA indicated that a yearly cost based on the proposed six hour per day use would be acceptable. Consistent with ALA's comment, the Joint Commenters pointed to a DOE study estimating a 6.3 hours per day national average daily ceiling fan use.¹⁶ Finally, ALA urged the Commission to maintain the current small label size.

¹⁶ Joint Commenters (citing American Lighting Association, The Ceiling Fan Industry Response To The Department of Energy: Energy Conservation Standards Rulemaking Framework Document For Ceiling Fans and Ceiling Fan Light Kits (June 13, 2013) at 14 (Docket No. ERE-2012-BT-STD-0045-0039)).

Discussion: The Commission plans to update the ceiling fan label as proposed. However, it will not issue final requirements until DOE completes its test procedures.¹⁷ To ensure consistency with the DOE testing requirements, the Commission proposes to adopt final DOE use and operating assumptions for the amended label, including representative hours of operation, a representative or average speed, and a revised scope of products covered by the test procedure. Once a final rule is issued, the Commission plans to allow a two-year compliance period. The five-year period suggested by commenters for some models is simply too long because it would create a prolonged period during which inconsistent labels would appear in the marketplace. The Commission seeks comment on these proposals.¹⁸

¹⁷ Specifically, as indicated in its proposed notices last fall, DOE may establish the daily use hours for calculating label information, a representative (or average) speed for measuring energy use, and a revised scope of products covered by the test procedure. See, e.g., 79 FR 62521 (Oct 17, 2014).

¹⁸ In its test procedure Notice (79 FR at 62524 (Oct. 17, 2014)), DOE proposed a special testing approach for “multi-mount” fan models under the Rule's coverage. Such models can be installed in two configurations: extended from the ceiling or flush with the ceiling (i.e., a “hugger” configuration). DOE proposed to require testing for these models at two separate configurations. Should DOE adopt such an approach, the Commission proposes that the EnergyGuide label for these models reflect the lowest efficiency (cubic feet per watt) configuration, with the option of providing a second label depicting the performance at the other configuration.

C. Consolidated Refrigerator Ranges

Background: The current Rule organizes refrigerator comparability ranges by configuration (e.g., models with top-mounted freezers), designating eight separate categories for refrigerators and three for freezers.¹⁹ Five of those categories (or styles) apply to automatic-defrost refrigerator-freezers, which populate the bulk of showroom floors: side-by-side door models with and without through-the-door ice service; top-mounted freezer models with and without through-the-door ice service; and bottom-mounted freezer models.²⁰ The comparability ranges, which disclose the energy costs of the most and least efficient model in each category, allow consumers to easily compare the energy use of similarly configured units.

¹⁹ The Rule further divides each model category into several size classes (e.g., 19.5 to 21.4 cubic feet), each with its own comparability range.

²⁰ See 16 CFR part 305, appendices A and B. The Rule also has other range categories for less common models, including those with manual and partial defrost, and refrigerator-only models. In addition, the freezer categories include upright models with automatic defrost, upright models with manual defrost, and chest freezers.

In the 2014 SNPRM (79 FR 34642, June 18, 2014), the Commission proposed consolidating the ranges for various refrigerator model types, based on comments suggesting that a substantial number of consumers consider several different configurations when shopping. The consolidation of ranges would facilitate such comparison shopping, simplify the range categories, and alert consumers to the relative energy efficiency of various refrigerator types. 79 FR at 34651, June 18, 2014. To effectuate this goal, the Commission proposed to consolidate ranges for automatic defrost models purchased by the vast majority of residential consumers, while maintaining separate categories for less common models.²¹ Specifically, the Commission proposed to consolidate refrigerator ranges into three categories: automatic defrost refrigerator-freezers (currently Appendices A4-A8), manual or partial manual refrigerators and refrigerator-freezers (currently Appendices A2-A3, which cover mostly small-sized models), and refrigerators with no freezer (currently Appendix A1). The proposal maintained separate size classifications within the three categories because shoppers are unlikely to compare models of widely different sizes. The proposal also maintained the three freezer categories: upright manual defrost models (Appendix B1), upright automatic defrost models (Appendix B2), and chest freezers (Appendix B3) because there is no evidence that consumers typically shop for models across these categories.

²¹ Given the different characteristics of the less common models, the Commission reasoned that typical consumers are not likely to consider such models alongside automatic defrost refrigerator-freezers. For automatic defrost refrigerator freezers, the label would state, “Cost range based on all automatic-defrost refrigerator-freezers regardless of features or configuration.” 78 FR at 34651 (June 18, 2014).

Comments: These comments fell into three groups. As discussed below, efficiency groups continued to recommend refrigerator range consolidation while industry representatives continued to oppose it. In addition, some commenters suggested a hybrid approach, one which provided range data both for all models as well as specific model categories.

The Joint Commenters repeated their strong support for consolidating ranges. However, in contrast to the Commission's proposal, they recommended that the amendments consolidate all refrigerator-freezers into a single range, regardless of defrost features. They noted that some of the existing categories contain few, if any, models, and thus provide no meaningful comparison information at all.²² They also argued that consolidation will provide range information relevant to most U.S. consumers. According to these commenters, available data demonstrates that many consumers already consider refrigerators with different configurations (and likely different features) when shopping.²³ In addition, new DOE standards have reduced the maximum allowable energy consumption by 20 to 25 percent and diminished differences between the high and low ends of the current ranges. Under these circumstances, the commenters argued that consolidated ranges would provide a more useful comparison.²⁴

²² They also mentioned new DOE categories and the need to avoid creating new ranges for such products. However, the Commission has no plans to expand the labeling categories to match those DOE changes. Indeed, in recent years, the Commission has not expanded existing labeling categories to match DOE changes.

²³ 79 FR at 34651 (June 18, 2014).

²⁴ The Joint Commenters noted that the Energy Star program continues to use criteria that vary by feature and configuration. However, in their view, consolidated groupings on the FTC label are unlikely to create confusion as long as the range clearly states the model types being compared. In addition, the comments suggested the Commission consider special language to clarify that any Energy Star designation reflects a comparison with similarly-equipped and configured models.

Alternatively, both the Joint Commenters and the California Utilities recommended a hybrid approach, which would display two ranges on the label—one with comparative information for a specific model configuration (e.g., side-by-side door with ice service) and another with information about all models, regardless of configuration or features. The California Utilities explained that such a dual range would provide more informed consumer decisions. The Joint Commenters recommended that the FTC consider this approach should it maintain separate range categories for various refrigerator types.

AHAM opposed consolidation.²⁵ It argued that the existing categories provide valuable comparison information and help streamline the information consumers see. In its view, the proposed range consolidation could obscure this information, complicate consumers' efforts to compare products within specific categories, and mislead consumers into buying products solely based on an annual energy cost rather than other important considerations, such as configuration. It also argued that the current approach allows consumers to use the label's primary cost disclosure to compare models across product categories, even in the absence of a consolidated range.

²⁵ AHAM also criticized the lack of regulatory text associated with the proposal, arguing it is impossible to fully evaluate or comment on the Commission's proposal.

Additionally, AHAM took issue with the data presented by commenters to support range consolidation. First, AHAM discounted data from Consumer Reports demonstrating that 40 percent of visitors to Consumer Reports' online refrigerator/freezer ratings reviewed multiple configurations. AHAM argued that, because Consumer Reports focuses on informative editorial reviews, including features beyond energy, consumers likely visit their site to narrow their choices prior to shopping. Second, AHAM disagreed with the Joint Commenters' interpretation of AHAM data indicating that more than half of side-by-side refrigerator-freezer owners buy replacement units with a different configuration. AHAM argued that these results do not necessarily support the proposal to consolidate the ranges.²⁶ In AHAM's view, the data simply demonstrate that consumers are about as likely to replace an existing model with one of the same type as they are to select a different configuration.²⁷ Accordingly, it argued that the Commission should not base its decision on this information. Similarly, AHAM recommended that the Commission disregard a survey of Earthjustice members offered in previous comments, stating that it comes from a biased sample of respondents who may have a better understanding of energy consumption than the average consumer. AHAM noted plans to provide updated data on this point.

²⁶ Specifically, AHAM noted that the current label already allows consumers to compare the energy cost of different features. In its view, these results do not necessarily indicate that a consumer who replaces a unit with a different configuration necessarily considered more than one configuration. For instance, a consumer may have already chosen to pursue a different configuration before they started shopping.

²⁷ AHAM argued that data simply show that 46 percent of the time, consumers shop for one configuration (side-by-side) and the other 54 percent of the time they consider something else, which could be limited to one configuration or could be an array of configurations. AHAM had no information about whether consumers replacing side-by-side configuration models with other configurations shop with a particular configuration in mind.

The comments also offered different views on whether the proposal meets the Congressional intent of EPCA. AHAM asserted that the proposal conflicts with DOE's designated specific refrigerator-freezer product categories, which represent significant specific consumer benefits, preferences, and utilities. In contrast, the Joint Commenters argued that nothing in EPCA suggests the Commission must adhere to DOE's feature‐protecting approach.²⁸ According to the Joint Commenters, the proposed category consolidation reflects differing purposes behind the FTC labeling and DOE standards programs, as reflected in EPCA. The Joint Commenters argued that EPCA authorizes DOE to group covered products into different classes each with unique standards. In doing so, DOE can tailor its standards for different categories that provide special features to consumers, while the FTC carries out its role to provide consumers with information that will assist them in making purchasing decisions.

²⁸ The Joint Commenters noted that the FTC made similar changes when it consolidated categories for top‐loading and front‐loading clothes washers. The EnergyGuide label ranges group these machines together, offering separate ranges only for standard and compact models. 65 FR 16132, 16139 n. 91 (Mar. 27, 2000).

Discussion: The Commission proposes to amend the refrigerator label to include two range groups: One grouped by applicable model subcategory (e.g., side-by-side door configuration) and the other covering all refrigerators. Consistent with the current Rule, both range groups would include separate ranges organized by capacity. As discussed above, and in the SNPRM, information submitted by commenters, including AHAM, strongly suggests that a substantial number of consumers consider models with different features when shopping. However, as AHAM explained in its comments, not all shoppers do so. The proposal addresses both contingencies by allowing consumers to compare the labeled product to similar models as well as to all other refrigerators.

In addition to proposed Rule language to effect this change to the label, this Notice includes proposed updated ranges based on new model data from the DOE database, including a new range reflecting consolidated range data for all refrigerators. These consolidated ranges will appear on the labels along with those applicable to the particular product class. Before issuing final refrigerator ranges, the Commission will consider updating the numbers based on the most recent data.²⁹

²⁹ As indicated in a previous Notice, the Commission will publish updated ranges for the clothes washer label based on new DOE data. See 79 FR 34642, 34657, n. 114 (June 18, 2014).

The proposal also amends the range tables to cover bottom-mounted freezers with through-the-door ice, a popular product subcategory currently not covered by the various tables. To accomplish this, the proposed amendments redesignate Appendix A7, which currently covers an obsolete category (top-mounted freezer with through-the-door ice models). In addition, the proposal modifies the size categories in each table to ensure consistency in all the ranges across all sizes. Consistent with past range changes, the Commission plans to provide manufacturers with 90 days after final amendments to comply with the updated labels. The Commission seeks comment on the proposal.³⁰ Finally, the Commission notes that nothing in EPCA requires the label ranges to match the categories set out by DOE in its standards regulations. EPCA's labeling section provides the Commission with flexibility to determine the content and format of the EnergyGuide labels, as long as the information provided reflects the results of the DOE test procedures.³¹ DOE's product categories allow that agency to tailor the efficiency standards to different model types, which may exhibit variations in energy consumption depending on features and configuration. However, the DOE categories do not necessarily reflect the best model groupings for consumers when they comparison shop. Accordingly, the FTC range categories for consumer labels do not necessarily correspond to the DOE categories established for the standards program.

³⁰ The Commission also proposes to eliminate an obsolete reference to adjusted volume for refrigerators and freezers in the Rule's capacity section (section 305.7(a)(b)).

³¹ See 42 U.S.C. 6294. See also 65 FR 16132, 16139 n. 91 (Mar. 27, 2000) (“The Commission is not constrained by any statutory provisions from establishing the product classes in the Appendices for purposes of the ranges of comparability in whatever form it believes to be most appropriate”).

BILLING CODE 6750-01-P

BILLING CODE 6750-01-C

D. Dual Mode Refrigerator-Freezers

The Commission proposes to add a new Rule provision addressing covered refrigerator models that can operate as a refrigerator or a freezer under the DOE rules, depending on user settings. In 2014, DOE announced that such convertible refrigerator-freezers must be tested and certified to meet efficiency standards applicable to both refrigerators and freezers.³² AHAM then sought clarification on labeling these products. Specifically, it suggested that, consistent with manufacturers' labeling practices, convertible products be labeled with the most energy intensive configuration. The Commission agrees. AHAM's proposal would ensure that labels for these products do not underestimate the energy cost of the product. The proposed rule contains language in § 305.11(f)(5) and (8) addressing this issue. The Commission seeks comment on this proposal.

³² 79 FR 22320 (Apr. 21, 2014).

E. Portable Air Conditioners

Background: In the 2014 SNPRM, the Commission proposed requiring EnergyGuide labels for portable air conditioners because DOE had proposed designating portable air conditioners as covered products under EPCA.³³ Given the similarity of portable air conditioners to room air conditioners, the Commission proposed to require the same or similar labeling for the two products. The proposal did not require labeling until DOE completes a test procedure.

³³ 78 FR 40403 (July 5, 2013) and 42 U.S.C. 6292. Portable air conditioners are movable units, unlike room air conditioners, which are permanently installed on the wall or in a window. DOE has proposed to establish testing and standards for portable air conditioners pursuant to its authority in EPCA to add new product categories. If DOE decides to include portable air conditioners and if the Commission decides to require labels for these products, it will amend the Rule's coverage (and associated language) in a manner consistent with any final DOE determination.

Comments: In response, the comments supported, or at least did not oppose, labels for portable air conditioners. However, as discussed below, various comments urged the Commission to wait until DOE completes its rulemaking, requested more information about the proposed labeling, recommended labeling consistent with room air conditioners, and suggested the Commission consider using existing industry test procedures until DOE completes its rulemaking.

AHAM, which did not oppose the proposal, emphasized that the FTC should not require EnergyGuide labels for these products until DOE finalizes a regulation designating them as covered products and completes a test procedure. In addition, AHAM indicated that the FTC should provide more information about the label's benefits to consumers and a more detailed proposal. AHAM also noted that, as with room air conditioners, retail display practices for portable air conditioners are mixed (i.e., models displayed both in and out of the box). Thus, AHAM suggested requiring the labels in the same location as the room air conditioner label.

The California Utilities supported labels on portable air conditioners and recommended that the Commission immediately require such labels based on an existing test procedure (ANSI/AHAM PAC-1-2009). It argued that doing so would provide consumer benefits while DOE finalizes its own test procedure.³⁴ According to these comments, the benefits from labeling these products outweigh potential costs associated with switching tests in the future. Additionally, the DOE rulemaking process often takes several years to complete, and the compliance date for these rulemakings is often three to five years beyond publication of the final DOE test procedure. To avoid this long delay, the California Utilities recommended that the Commission require procedures in ANSI/AHAM PAC-1 and develop EnergyGuide labeling requirements as soon as feasible.

³⁴ According to the comment, the metrics incorporated in the ANSI/AHAM test procedure include: Single duct energy efficiency ratio (SD-EER); dual duct energy efficiency ratio (DD-EER); and spot cooling energy efficiency ratio (SC-EER).

Discussion: The Commission plans to require portable air conditioner labels after DOE completes its test procedure rulemaking. As discussed below, the Commission finds that labeling this product category is appropriate under EPCA because it is likely to assist consumers in their purchasing decisions and to be economically and technologically feasible.³⁵

³⁵ See 42 U.S.C. 6294(a)(3).

Portable air conditioners are common in the marketplace, use energy equivalent to already-covered room air conditioners, and vary in their energy use. Specifically, DOE has reported that the aggregate energy use of portable ACs has been increasing as these units have become popular in recent years.³⁶ According to DOE, sellers shipped an estimated 0.76 million units in the United States, with a projected growth to 0.98 million units by 2019, when DOE standards are scheduled to take effect. DOE also estimated that these products have a large efficiency rating range (approximately 8.2-14.3 EER). In addition, DOE estimated average per-household annual electricity consumption for these products at approximately 650 kWh/yr (750 kWh/yr for EER 8.2, and 400 kWh/yr for EER 14.3). Thus, given this energy information, the Commission finds that energy labeling for these products is likely to assist consumers with their purchasing decisions by allowing them to compare the energy costs of competing models. In addition, because these portable air conditioner models closely resemble room air conditioners, which are currently labeled under the Rule, the burdens and benefits of labeling these products should not differ significantly from those already applicable to room air conditioners. Therefore, the Commission finds that labeling for these products is economically and technologically feasible.

³⁶ See 78 FR 40403, 40404-05 (July 5, 2013); Technical Support Document: Energy Efficiency; Program for Consumer Products and Commercial and Industrial Equipment: Portable Air Conditioners. U.S. Department of Energy—Office of Energy Efficiency and Renewable Energy (Feb. 18, 2015), http://www.regulations.gov/#!documentDetail;D=EERE-2013-BT-STD-0033-0007.

The Commission proposes to require labels for portable air conditioners identical to the current room air conditioner label in content and format. The proposed amendments include the DOE's proposed definition of “portable air conditioner” at section 305.3.³⁷ The amendments would include separate ranges for portable air conditioners in the Rule's appendices, which the Commission would publish after data becomes available. The Commission does not propose to combine the ranges with room air conditioners because it is not clear whether consumers routinely compare portable air conditioners to room air conditioners when shopping. In addition, consistent with requirements applicable to room air conditioners, the Commission proposes to establish reporting requirements identical to those created by DOE for these products.

³⁷ To effect new labeling requirements, the proposed amendments insert the term “portable air conditioner” next to “room air conditioner” into appropriate paragraphs of §§ 305.2 (definitions), 305.3 (description of covered products), 305.7 (determinations of capacity), 305.8 (submission of data), 305.11 (labeling for appliances), and 305.20 (catalog requirements).

At this time, DOE has not issued a final test procedure or language for the definition of “portable air conditioner.” ³⁸ Once DOE issues a final test procedure, the Commission will make a final determination on labeling based on the comments received. If the Commission decides to require labels, the Commission will provide manufacturers adequate time to test their products and report energy data before they begin labeling their products. After such data is available, the Commission will publish ranges of comparability as well as a compliance date for the new labels. In the meantime, the Commission does not propose to require labeling based on existing industry test procedures in the short term. The Commission is concerned that, if the eventual DOE test results differ significantly from the existing industry tests, the EnergyGuide labels generated before and after the compliance date for the DOE test may not be comparable and thus could create potential confusion.³⁹ The Commission invites further comments on labeling these products.

³⁸ DOE published a proposed test procedure on February 25, 2015 (80 FR 10212).

³⁹ Under EPCA, any energy representations on the label must reflect the DOE test results. 42 U.S.C. 6293(c).

F. Heating and Cooling Equipment Requirements

The Commission proposes several amendments to the heating and cooling equipment label requirements related to new issues not discussed in the 2014 SNPRM. As detailed below, these proposed changes involve revised central air conditioner labels to reflect upcoming changes to DOE rules, new labels for rooftop furnace-air conditioner systems, manufacturer name disclosures on the label, and a clarification for disclosures of multiple model numbers on the label.

Revised Central Air Conditioner Labels—Regional Standards: On February 6, 2013, the Commission published new labeling requirements for heating and cooling equipment.⁴⁰ The new labels, directed by Congress, provide industry members and consumers with information about regional efficiency standards recently issued by DOE.⁴¹ These DOE requirements impose regional efficiency standards for split-system air conditioners and single-package air conditioners. For all other covered heating and cooling equipment (e.g., furnaces and boilers), the updated standards remain nationally uniform. Since publication of the regional standards related labels in 2013, the Commission has issued several notices updating ranges and labels to reflect a court-approved settlement that vacated DOE's regional standards for furnaces.⁴²

⁴⁰ 78 FR 8362.

⁴¹ 16 CFR 305.12 & App. L, Prototype Label 3, Sample Labels 7A, 7B, 9.

⁴² See 79 FR 46985 (Aug. 12, 2014); 79 FR 52549 (Sept. 4, 2014); 79 FR 77868 (Dec. 29, 2014). On April 24, 2014, the Court of Appeals for the D.C. Circuit approved a settlement in the DOE litigation, which vacates and remands DOE's regional standards for non-weatherized natural gas and mobile home furnaces and sets a two-year time table for DOE to propose new standards. American Public Gas Ass'n v. DOE, No. 11-1485 (D.C. Cir. filed Dec. 23, 2011) (DE.#1433580, May 1, 2013).

During the fall of 2014, DOE conducted a negotiated rulemaking to establish enforcement rules for current regional standards applicable to central air conditioners.⁴³ The current standards set a minimum 14.0 Seasonal Energy Efficiency Ratio (SEER) for the southern and southwestern regions, a 13.0 SEER for all other areas, and separate Energy Efficiency Rating (EER) levels for the southwest region. For a particular condenser model, efficiency ratings vary (e.g., 13.0 to 14.2 SEER) depending on the system (i.e., the condenser-coil combination) installed in the consumer's home. Because such variability complicates efforts to enforce the regional standards, the consensus recommendation from the negotiated rulemaking advised DOE to determine regional compliance based on the condenser's lowest certified rating alone, not on the system rating as installed in the home.⁴⁴ For instance, if a condenser's efficiency rating ranges from 13.0 to 14.2 SEER (depending on the coil ultimately matched with it), DOE will consider the rating to be 13.0 SEER for regional standards compliance, regardless of which coil it is ultimately installed with.

⁴³ See, e.g., 79 FR 45731 (Aug. 6, 2014).

⁴⁴ See “2014-10-24 Presentation Hand Out: Regional Standards Enforcement Working Group, Enforcement Plan,” Oct. 24, 2014, Energy Efficiency and Renewable Energy Office, Department of Energy, http://www.regulations.gov/#!documentDetail;D=EERE-2011-BT-CE-0077-0070.

The recommended change, if implemented by DOE, will require revisions to the EnergyGuide label for central air conditioners because the current label advises installers to ensure the rating for the system (i.e., the specific condenser-coil combination) they install in a consumer's home meets the DOE regional standards. To conform the FTC label to these potential DOE requirements, the Commission, as detailed below, proposes new labels for central air conditioners that simply identify the states in which the labeled model may be installed.⁴⁵

⁴⁵ Such an approach is consistent with the current regional standards labels for single package units. See, e.g., 78 FR at 8384 (sample label).

Specifically, the FTC proposes three types of labels for split systems. First, labels for models that may be installed anywhere (i.e., those that meet all applicable SEER and EER thresholds) would contain the statement: “Notice: Federal law allows this unit to be installed in all U.S. states and territories.” Second, labels for models that do not meet the 14.0 SEER threshold for southern states and southwestern states would contain a map identifying the states in which the unit may be legally installed. For instance, a model with a minimum rated efficiency of 13.8 SEER would contain a map indicating that that model can be legally installed only in northern states along with a statement that “Federal law prohibits installation of this unit in other states.” Finally, labels for a model with a minimum 14.0 SEER rating that does not meet EER minimum ratings for the southwest region would contain a map indicating that it can be legally installed only in northern and southern states (excluding southwestern states) as well as a statement that installation elsewhere is prohibited. These new label disclosures will simplify compliance by eliminating the need for installers to compare specific system ratings against the DOE standards.

In addition, consistent with the recommended approach, the proposed label would disclose only the efficiency rating for lowest rated coil-condenser combination (e.g., 14.4 SEER), eliminating the range of ratings currently on the label (e.g., 13.9-15.0 SEER). The range of ratings on the current label alerts installers and consumers that a model's compliance with regional standards could vary depending on the installed coil-condenser combination. Given the enforcement approach developed during DOE's negotiated rulemaking, such information is no longer necessary for the label. A single, minimum efficiency rating will provide a simpler, more direct way to communicate the model's performance to consumers. If a system, as actually installed, has a higher efficiency rating than the minimum rating displayed on the label, that installer may communicate that fact to consumers. The Commission seeks comment on this and all other aspects of the proposal.

BILLING CODE 6750-01-P

BILLING CODE 6750-01-C

Rooftop Systems: In its 2014 SNPRM comments, AHRI recommended that the Commission create new labels for packaged rooftop systems, a relatively new product consisting of a combination gas furnace and air conditioner (or heat pump). AHRI requested that the Commission amend the Rule to allow manufacturers to combine the gas furnace information and the air conditioner or heat pump information, as applicable, on a single EnergyGuide label. Such an approach would be consistent with residential heat pump labels, which already provide both cooling and heating efficiency information.

In response, the Commission proposes amending section 305.12 to allow a single label for these products reflecting the ratings for furnace and air conditioner (or heat pump) combinations as long as the unit meets all applicable air conditioner regional standards. For models that do not meet the air conditioner standards, manufacturers would have to use two labels because a single label would not have space to accommodate all necessary disclosures (i.e., the annual fuel utilization efficiency AFUE, SEER, and regional standards map). The Commission seeks comment on this proposal.

Manufacturer Name: The Commission also seeks comments on whether the Rule should continue to require the manufacturer or private labeler name on the label. In 2013, the FTC amended the heating and cooling equipment labels to require the manufacturer or private labeler's name on EnergyGuide labels for covered equipment. This change occurred as part of the larger effort to create new labels consistent with new DOE regional efficiency standards.⁴⁶ However, the Rule's current requirements for labels on refrigerators, clothes washers, and other appliances (§ 305.11) continue to give manufacturers or private labelers the option to put their names on labels. To ensure the heating and cooling labels are consistent with other EnergyGuide labels, the Commission proposes to restore the option in § 305.12(f)(2) and (g)(2) of including the manufacturer or private labeler name on the label. The Commission does not expect this will have any significant negative impact on consumers. For instance, the manufacturer or private labeler name is not necessary to use the DOE database, including the cost calculator, because the model number is adequate for that purpose. In addition, because the labels are generally affixed to the products themselves or appear on Web sites describing the product, consumers are likely to know the identity of the equipment's manufacturer or private labeler. The Commission seeks comments on this proposal.

⁴⁶ See 78 FR 8362 (Feb. 6, 2013). Though the proposed rule language contained this change (77 FR 33337 (June 6, 2012)), the proposed rule Notice did not discuss this issue. In issuing the original labeling rule in the 1970's, the Commission noted that the manufacturer and private labeler name was optional on EnergyGuide labels to “minimize the printing burden on manufacturers who produce covered products for private labelers . . . .” 44 FR 66466, 66470, 66479 (November 19, 1979).

Model Numbers: The Commission also proposes to clarify in § 305.12(f)(3) and (g)(3) that manufacturers or private labelers may print multiple model numbers on a single label as long as the models share the same efficiency ratings and capacities. In the original 1979 rulemaking notice, the Commission explained that manufacturers and private labelers may include multiple model numbers for models sharing the same rating and capacity; however, associated language did not appear in the rule itself.⁴⁷ By ensuring that all model numbers listed in a single label share the same capacity as well as efficiency rating, the proposed clarification would ensure all model numbers listed on a single label will generate the same cost calculations when entered into the DOE online database. The Commission seeks comment on this proposal.

⁴⁷ See 44 FR at 66479 (Nov. 19, 1979) (“a manufacturer or private labeler may include multiple model numbers on the label if the models have the same capacity and consume the same amount of energy”).

Updating Retailer Disclosure Requirements (§ 305.14): The Commission plans to revise the effective date for the disclosure requirements in § 305.14 related to efficiency information that furnace and air conditioner installers must provide to customers.⁴⁸ In the Rule language (published in 2013), the Commission tied the effective date for the new provision to the compliance date for DOE regional furnace standards. However, because those DOE standards were subsequently vacated,⁴⁹ the Commission must set a new effective date. Accordingly, the Commission proposes to update that provision to clarify that the amendment published in 2013 now applies.

⁴⁸ In 2013, as part of the regional standards label rulemaking (78 FR 8362 (Feb. 6, 2013)), the Commission updated disclosure requirements in § 305.14 for manufacturers and retailers, including installers. The 2013 changes required sellers to ensure that consumers have pre-purchase access to the EnergyGuide labels for heating and cooling equipment. Previously, the Rule required sellers to disclose a list of information contained on the labels. The updated Rule simplified the disclosure by requiring retailers to provide access to the labels themselves.

⁴⁹ See 77 FR at 77868 (Dec. 29, 2014). American Public Gas Ass'n v. DOE, No. 11-1485 (D.C. Cir. filed Dec. 23, 2011) (DE.#1433580, May 1, 2013); (DE.# 1489805, Apr. 24, 2014).

G. Water Heater Labels

The Commission seeks comment on whether it should modify water heater labels in response to a new DOE test procedure (79 FR 40541 (July 11, 2014)).⁵⁰ Among other things, the new test procedure creates four categories or “bins,” which group models by their “first hour rating,” DOE's standard measure of hot water output for these products. The first hour rating appears on current EnergyGuide labels and displays the number of gallons of hot water the heater can supply per hour. Currently, the Rule groups water heater ranges by the first hour rating in roughly five gallon increments (e.g., 25-29, 30-34, 35-39 gallons, etc.). The four new DOE first hour rating bins are: very small (first hour rating less than 18 gallons), low (first hour rating between 18 and 51 gallons), medium (first hour rating between 51 and 75 gallons), and high (first hour rating greater than 75 gallons).

⁵⁰ DOE also published a proposed rule in April 2015 related to a “conversion factor” for use under the new test procedure (77 FR 20116 (April 14, 2015)). In that Notice, DOE proposed to continue to allow manufacturers to determine costs under existing testing requirements and thus create “a transition period for FTC to pursue a rulemaking to determine whether changes are needed to the water heater EnergyGuide label due to changes in the water heater test procedure.” 77 FR at 20138 (April 14, 2015).

In anticipation of these changes, the Commission seeks comment on amendments to the water heater label ranges to provide both: (1) Tank capacity information; and (2) first hour rating information consistent with the four new DOE categories. Because water heaters are commonly marketed by tank size (i.e., storage volume) and not first hour rating, comments should also discuss whether the Rule should group the ranges by tank size, and then further by first hour rating, placing the four DOE water usage bins within such tank size categories. Specifically, for storage water heaters, the proposed ranges contain three overall categories for tank capacity, which generally reflect the range of sizes in the market as well as size categories set by DOE in its standards: Fewer than 40 gallons, 40 to 55 gallons, and greater than 55 gallons. Within each of these three categories, the ranges group the models by DOE's four water usage categories (very small, small, medium, and large). For clarity, the proposed label would employ the term “hourly hot water output” instead of the more technical term “first hour rating.” The label would also contain text explaining the term “hourly hot water output.”

Figure 3—Proposed Ranges for Storage Water Heater
[Example—electric water heaters]
Tank capacity (gallons) and first hour rating (FHR) (gallons) | Range of estimated annual energy costs (dollars/year): Low | Range of estimated annual energy costs (dollars/year): High
Tank Capacity—Less than 40:
FHR—“Very Small”—less than 18 | $XX | $XX
FHR—“Low”—18 to 50.9 | $XX | $XX
FHR—“Medium”—51 to 74.9 | $XX | $XX
FHR—“High”—over 75 | $XX | $XX
Tank Capacity—40 to 55:
FHR—“Very Small”—less than 18 | $XX | $XX
FHR—“Low”—18 to 50.9 | $XX | $XX
FHR—“Medium”—51 to 74.9 | $XX | $XX
FHR—“High”—over 75 | $XX | $XX
Tank Capacity—Over 55
FHR—“Very Small”—less than 18 | $XX | $XX
FHR—“Low”—18 to 50.9 | $XX | $XX
FHR—“Medium”—51 to 74.9 | $XX | $XX
FHR—“High”—over 75 | $XX | $XX

Figure 4—Proposed Ranges for Instantaneous Gas Water Heater
Gallons per minute (GPM) | Range of estimated annual energy costs (dollars/year): Low | Range of estimated annual energy costs (dollars/year): High
GPM—“Very Small”—less than 1.6 | $XX | $XX
GPM—“Low”—1.7 to 2.7 | $XX | $XX
GPM—“Medium”—2.8 to 3.9 | $XX | $XX
GPM—“High”—over 4.0 | $XX | $XX

The Commission also plans to update the comparability range for water heaters to reflect the results of the new test procedure and significant efficiency increases driven by the new DOE standards (see Figures 3 and 4).⁵¹ Indeed, as a result of the new DOE standards, most if not all electric water heaters will include heat pump technology. The Commission, therefore, proposes revising the existing water heater categories to eliminate the separate category for heat pump water heaters, and combining such models into a general category for all electric water heaters. This change should simplify the tables and help consumers compare all electric water heaters.⁵² The Commission seeks comments on various aspects of these proposals, including whether the label should contain any other information for consumers related to the transition to the recent DOE changes and whether the new label ranges for storage models should be organized by tank size and first hour rating (as proposed), or by some other approach.

BILLING CODE 6750-01-P

⁵¹ Given the absence of model energy data from the new test procedure, the amendatory language in this Notice does not include proposed tables for revised cost ranges.

⁵² The Commission also plans to update the definition of “water heater” so that it is consistent with clarifying changes to that term recently proposed by DOE. 79 FR 40541 (July 11, 2014).

BILLING CODE 6750-01-C

H. Plumbing ASME Reference Update

The Commission proposes to update the marking and labeling requirements in section 305.16 to reference the current ASME standards for showerheads and faucets (“A112.18.1”), as well as water closets and urinals (“A112.19.2”). The proposed change updates these references by removing the letter “M,” which appeared in obsolete versions of the standards' titles (e.g., “A112.18.1M”), so that they read “A112.18.1” and “A112.19.2” respectively, making them consistent with the current designations for these standards referenced in existing DOE water efficiency standards (10 CFR part 430). EPCA directs the Commission to amend the labeling requirements to be consistent with any revisions to these ASME standards, unless the Commission finds such amendments would be inconsistent with EPCA's purposes and labeling requirements. 42 U.S.C. 6294(a)(2)(E). The Commission finds no such inconsistency with the proposed change. Given the routine nature of this change, the minimal impact it will have on consumers, the Commission proposes to provide manufacturers with two years to change the marking on their affected plumbing products with the updated reference. The Commission seeks comment on this proposal.

I. Miscellaneous Refrigerator Products

The Commission recently sought comments on labeling for several refrigeration products not covered by existing labeling requirements (79 FR 78736 (Dec. 31, 2014)) in response to recent DOE efforts to set standards and establish test procedures for such products, which include cooled cabinets, non-compressor refrigerators, hybrid refrigerators, compact hybrid refrigerators, hybrid freezers, and residential ice makers.⁵³ Until DOE completes these efforts, the FTC plans to refrain from proposing any specific labeling requirements.

⁵³ See 78 FR 65223 (Oct. 31, 2013) (proposed coverage determination); 79 FR 74894 (Dec. 16, 2014) (proposed test procedures).

III. Request for Comment

You can file a comment online or on paper. For the Commission to consider your comment, we must receive it on or before January 11, 2016. Write “Energy Labeling Amendments (16 CFR part 305) (Project No. R611004)” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, such as medical records or other individually identifiable health information. In addition, do not include any trade secret or any commercial or financial information which is privileged or confidential, as discussed in section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c). Your comment will be kept confidential only if the FTC General Counsel, in his or her sole discretion, grants your request in accordance with the law and the public interest.

Postal mail addressed to the Commission is subject to delay due to heightened security screening. As a result, we encourage you to submit your comments online. To make sure that the Commission considers your online comment, you must file it at https://ftcpublic.commentworks.com/ftc/energylabeling, by following the instruction on the web-based form. If this Notice appears at http://www.regulations.gov, you also may file a comment through that Web site.

If you prefer to file your comment on paper, mail your comment to the following address: Federal Trade Commission, Office of the Secretary, 600 Pennsylvania Avenue NW., Suite CC-5610 (Annex E), Washington, DC 20580, or deliver your comment to the following address: Federal Trade Commission, Office of the Secretary, Constitution Center, 400 7th Street SW., 5th Floor, Suite 5610 (Annex E), Washington, DC 20024. If possible, submit your paper comment to the Commission by courier or overnight service.

Visit the Commission Web site at http://www.ftc.gov to read this NPRM and the news release describing it. The FTC Act and other laws that the Commission administers permit the collection of public comments to consider and use in this proceeding, as appropriate. The Commission will consider all timely and responsive public comments that it receives on or before January 11, 2016. You can find more information, including routine uses permitted by the Privacy Act, in the Commission's privacy policy, at http://www.ftc.gov/ftc/privacy.htm.

Because written comments appear adequate to present the views of all interested parties, the Commission has not scheduled an oral hearing regarding these proposed amendments. Interested parties may request an opportunity to present views orally. If such a request is made, the Commission will publish a document in the Federal Register stating the time and place for such oral presentation(s) and describing the procedures that will be followed. Interested parties who wish to present oral views must submit a hearing request, on or before November 30, 2015, in the form of a written comment that describes the issues on which the party wishes to speak. If there is no oral hearing, the Commission will base its decision on the written rulemaking record.

IV. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through May 31, 2017 (OMB Control No. 3084-0069). The proposed amendments make changes in the Rule's labeling requirements that will increase the PRA burden as detailed below.⁵⁴ Accordingly, the Commission will submit this notice of proposed rulemaking and associated Supporting Statement to OMB for review under the PRA.⁵⁵

⁵⁴ Several proposed labeling changes, including changes to dual mode refrigerators, plumbing fixtures, heating and cooling equipment, consolidated comparability ranges for refrigerators, URL links for labels, ceiling fan labels, room air conditioners, and water heaters should impose no additional burden beyond existing estimates because such changes either impose no or de minimis additional burdens, or manufacturers should be able to incorporate the proposed changes into their normally scheduled package or label revisions without incurring additional burdens beyond those already accounted for.

⁵⁵ The PRA analysis for this rulemaking focuses strictly on the information collection requirements created by and/or otherwise affected by the amendments. Unaffected information collection provisions have previously been accounted for in past FTC analyses under the Rule and are covered by the current PRA clearance from OMB.

Labeling (portable air conditioners): The proposed amendments require manufacturers to create and affix labels on these portable products. The amendments specify the content, format, and specifications of the required labels. Manufacturers would add only the energy consumption figures derived from testing and other product-specific information. Consistent with past assumptions regarding appliances, FTC staff estimates that it will take approximately six seconds per unit to affix labels. Staff also estimates that there are 1,000,000 portable air conditioner units distributed in the U.S. per year. Accordingly, the total disclosure burden per year for refrigeration products would be 1,667 hours (1,000,000 × 6 seconds). Assuming that product labels will be affixed by electronic equipment installers at an hourly wage of $23.81 ⁵⁶ per hour, cumulative associated labor costs would total $39,691 per year.

⁵⁶ The mean hourly wage cited above and those that follow are drawn from Bureau of Labor Statistics, U.S. Department of Labor, Occupational Employment and Wages—May 2014, Table 1 (National employment and wage data from the Occupational Employment Statistics survey by occupation, May 2014), available at: http://www.bls.gov/news.release/ocwage.t01.htm.

Testing (portable air conditioners): Manufacturers need not test each basic model annually; they must retest only if the product design changes in such a way as to affect energy consumption. Staff believes that the frequency with which models will be tested every year ranges roughly between 10% and 50%. It is likely that only a small portion of the tests conducted will be attributable to the proposed Rule's requirements. Nonetheless, given the lack of specific data on this point, FTC staff conservatively assumes that all of the tests conducted would be attributable to the Rule's requirements and will apply to that assumption the high-end of the range noted above for frequency of testing. Based on an informal review of products offered on Web sites as well as consultation with DOE staff, staff estimates that there are approximately 150 basic models, that manufacturers will test two units per model, and that testing would require one hour per unit tested. Given these estimates and the above-noted assumption that 50% of these basic models would be tested annually, testing would require 150 hours per year. Assuming further that this testing will be implemented by electrical engineers, and applying an associated hourly wage rate of $46.05 per hour, labor costs for testing would total $6,908. The Commission does not expect that the proposed amendments for portable air conditioners will create any capital or other non-labor costs for such testing.

Recordkeeping (portable air conditioners): Pursuant to Section 305.21 of the proposed amended Rule, manufacturers must keep test data on file for a period of two years after the production of a covered product model has been terminated. Assuming one minute per model and 150 basic models, the recordkeeping burden would total 3 hours, rounded upward. Assuming further that these filing requirements will be implemented by data entry workers at an hourly wage rate of $15.48 per hour, the associated labor cost for recordkeeping would be approximately $46 per year.

Reporting Requirements (online database and portable air conditioners): The proposed amendments would require manufacturers to furnish links to images of their EnergyGuide and Lighting Facts labels. Given approximately 15,000 total models at an estimated 1 minute per model, this requirement will entail a burden of 250 hours. In addition, the proposed labeling for these products would increase the Rule's reporting requirements by adding portable air conditioners. Staff estimates that the average reporting burden for these manufacturers is approximately two minutes per basic model to enter information into DOE's online database. Based on this estimate, multiplied by an estimated total of 150 basic portable air conditioner models, the annual reporting burden for manufacturers is an estimated 5 hours (2 minutes × 150 models ÷ 60 minutes per hour). Assuming further that these filing requirements will be implemented by data entry workers at an hourly wage rate of $15.48 per hour, the associated labor cost for reporting would be approximately $3,947 per year. Any non-labor costs associated with the reporting amendments are likely to be minimal.

Catalog Disclosures (portable air conditioners): The proposed amendments would require sellers offering covered products through catalogs (both online and print) to disclose energy use for each portable air conditioner model offered for sale. Because this information is supplied by the product manufacturers, the burden on the retailer consists of incorporating the information into the catalog presentation. FTC staff estimates that there are 200 online and paper catalogs for these products that would be subject to the Rule's catalog disclosure requirements. Staff additionally estimates that the average catalog contains approximately 50 such products and that entry of the required information takes one minute per covered product. The cumulative disclosure burden for catalog sellers is thus 167 hours (200 retailer catalogs × 50 products per catalog × 1 minute each per product shown). Assuming that the additional disclosure requirement will be implemented by data entry workers at an hourly wage rate of $15.48, associated labor costs would approximate $2,585 per year.

Estimated annual non-labor cost burden (portable air conditioners): Manufacturers are not likely to require any significant capital costs to comply with the proposed portable air conditioner amendments. Industry members, however, will incur the cost of printing labels for each covered unit. The estimated label cost, based on estimates of 1,000,000 units and $.03 per label, is $30,000 (1,000,000 × $.03).

Total Estimate: Accordingly, the estimated total hour burden of the proposed amendments is 2,242 with associated labor costs of $53,177 and annualized capital or other non-labor costs totaling $30,000.

Pursuant to section 3506(c)(2)(A) of the PRA, the FTC invites comments on: (1) Whether the proposed information collection is necessary, including whether the information will be practically useful; (2) the accuracy of our burden estimates, including whether the methodology and assumptions used are valid; (3) ways to enhance the quality, utility, and clarity of the information to be collected; and (4) ways to minimize the burden of the collection of information. All comments should be filed as prescribed in the ADDRESSES section above, and must be received on or before January 11, 2016. Comments on the proposed recordkeeping, disclosure, and reporting requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5806.

V. Regulatory Flexibility Act

The Regulatory Flexibility Act (RFA), 5 U.S.C. 601 through 612, requires that the Commission provide an Initial Regulatory Flexibility Analysis (IRFA) with a proposed rule and a Final Regulatory Flexibility Analysis (FRFA), if any, with the final rule, unless the Commission certifies that the rule will not have a significant economic impact on a substantial number of small entities. See 5 U.S.C. 603 through 605.

The Commission does not anticipate that the proposed rule will have a significant economic impact on a substantial number of small entities. The Commission recognizes that some of the affected manufacturers may qualify as small businesses under the relevant thresholds. However, the Commission does not expect that the economic impact of the proposed amendments will be significant.

The Commission estimates that the amendments will apply to 150 online and paper catalog sellers of covered products and about 50 portable air conditioner manufacturers. The Commission expects that approximately 150 qualify as small businesses.

Accordingly, this document serves as notice to the Small Business Administration of the FTC's certification of no effect. To ensure the accuracy of this certification, however, the Commission requests comment on whether the proposed rule will have a significant impact on a substantial number of small entities, including specific information on the number of entities that would be covered by the proposed rule, the number of these companies that are small entities, and the average annual burden for each entity. Although the Commission certifies under the RFA that the rule proposed in this notice would not, if promulgated, have a significant impact on a substantial number of small entities, the Commission has determined, nonetheless, that it is appropriate to publish an IRFA in order to inquire into the impact of the proposed rule on small entities. Therefore, the Commission has prepared the following analysis:

A. Description of the Reasons That Action by the Agency Is Being Taken

The Commission is proposing expanded product coverage and additional improvements to the Rule to help consumers in their purchasing decisions for high efficiency products.

B. Statement of the Objectives of, and Legal Basis for, the Proposed Rule

The objective of the rule is to improve the effectiveness of the current labeling program. The legal basis for the Rule is the Energy Policy and Conservation Act (42 U.S.C. 6292 et seq.).

C. Small Entities To Which the Proposed Rule Will Apply

Under the Small Business Size Standards issued by the Small Business Administration, appliance manufacturers qualify as small businesses if they have fewer than 1,000 employees (for other household appliances the figure is 500 employees). Catalog sellers qualify as small businesses if their sales are less than $8.0 million annually. The Commission estimates that there are approximately 150 entities subject to the proposed rule's requirements that qualify as small businesses.⁵⁷ The Commission seeks comment and information with regard to the estimated number or nature of small business entities for which the proposed rule would have a significant economic impact.

⁵⁷ See 75 FR at 41712 (July 19, 2010).

D. Projected Reporting, Recordkeeping and Other Compliance Requirements

The changes under consideration would slightly increase reporting or recordkeeping requirements associated with the Commission's labeling rules as discussed above. The amendments likely will increase compliance burdens by extending the labeling requirements to portable air conditioners and creating an online database. The Commission assumes that the label design change will be implemented by graphic designers.

E. Duplicative, Overlapping, or Conflicting Federal Rules

The Commission has not identified any other federal statutes, rules, or policies that would duplicate, overlap, or conflict with the proposed rule. The Commission invites comment and information on this issue.

F. Significant Alternatives to the Proposed Rule

The Commission seeks comment and information on the need, if any, for alternative compliance methods that, consistent with the statutory requirements, would reduce the economic impact of the rule on small entities. For example, the Commission is currently unaware of the need to adopt any special provisions for small entities. In addition, the database requirement requires only electronic compliance methods, and does not impose any additional or more burdensome paper-based requirements. However, if such issues are identified, the Commission could consider alternative approaches such as extending the effective date of these amendments for catalog sellers to allow them additional time to comply beyond the labeling deadline set for manufacturers. Nonetheless, if the comments filed in response to this notice identify small entities that are affected by the proposed rule, as well as alternative methods of compliance that would reduce the economic impact of the rule on such entities, the Commission will consider the feasibility of such alternatives and determine whether they should be incorporated into the final rule.

VI. Communications by Outside Parties to the Commissioners or Their Advisors

Written communications and summaries or transcripts of oral communications respecting the merits of this proceeding, from any outside party to any Commissioner or Commissioner's advisor, will be placed on the public record. See 16 CFR 1.26(b)(5).

VII. Proposed Rule

List of Subjects in 16 CFR Part 305

Advertising, Energy conservation, Household appliances, Labeling, Reporting and recordkeeping requirements.

For the reasons discussed above, the Commission proposes to amend part 305 of title 16, Code of Federal Regulations, as follows:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

2. In § 305.3, add paragraph (z) to read as follows:

§ 305.3 Description of covered products.

* * * * *

(z) Portable air conditioner means an encased assembly, other than a “packaged terminal air conditioner,” “room air conditioner,” or “dehumidifier,” designed as a portable unit for delivering cooled, conditioned air to an enclosed space, that is powered by single-phase electric current, which may rest on the floor or other elevated surface. It includes a source of refrigeration and may include additional means for air circulation and heating.

3. Revise § 305.6 to read as follows:

§ 305.6 Duty to provide labels.

(a) For each covered product that a manufacturer distributes in commerce after July 15, 2013, which is required by this part to bear an EnergyGuide or Lighting Facts label, the manufacturer must make a copy of the label available on a publicly accessible Web site in a manner that allows catalog sellers to hyperlink to the label or download it for use in Web sites or paper catalogs. The label for each specific model must remain on the Web site for six months after production of that model ceases.

(b) Manufacturers must submit the Web site address for the online labels covered by paragraph (c) In lieu of submitting the required information to the Commission, manufacturers may submit such information to the Department of Energy via the CCMS at https://regulations.doe.gov/ccms as provided by 10 CFR 429.12.

4. Amend § 305.7 by revising paragraphs (a), (b), and (d) to read as follows:

§ 305.7 Determinations of capacity.

* * * * *

(a) Refrigerators and refrigerator-freezers. The capacity shall be the total refrigerated volume (VT) in cubic feet, rounded to the nearest one-tenth of a cubic foot, as determined according to appendix A to 10 CFR part 430, subpart B.

(b) Freezers. The capacity shall be the total refrigerated volume (VT) in cubic feet, rounded to the nearest one-tenth of a cubic foot, as determined according to appendix B to 10 CFR part 430, subpart B.

* * * * *

(d) Water heaters. The capacity shall be the tank capacity and first hour rating, as determined according to appendix E to 10 CFR part 430, subpart B.

* * * * *

5. Amend § 305.11 by revising the title and paragraph (f) to read as follows:

§ 305.11 Labeling for refrigerators, refrigerator-freezers, freezers, dishwashers, clothes washers, water heaters, room air conditioners, portable air conditioners, and pool heaters.

* * * * *

(f) Label content. (1) Headlines and texts, as illustrated in the prototype and sample labels in appendix L to this part.

(2) Name of manufacturer or private labeler shall, in the case of a corporation, be deemed to be satisfied only by the actual corporate name, which may be preceded or followed by the name of the particular division of the corporation. In the case of an individual, partnership, or association, the name under which the business is conducted shall be used. Inclusion of the name of the manufacturer or private labeler is optional at the discretion of the manufacturer or private labeler.

(3) Model number(s) will be the designation given by the manufacturer or private labeler.

(4) Capacity or size is that determined in accordance with § 305.7. For refrigerators, refrigerator-freezers, and freezers, the capacity provided on the label shall be the model's total refrigerated volume (VT) as determined in accordance with § 305.7.

(5) Unless otherwise indicated in this paragraph, estimated annual operating costs for refrigerators, refrigerator-freezers, freezers, clothes washers, dishwashers, room air conditioners, portable air conditioners, and water heaters are as determined in accordance with §§ 305.5 and 305.10. Thermal efficiencies for pool heaters are as determined in accordance with § 305.5. Labels for clothes washers and dishwashers must disclose estimated annual operating cost for both electricity and natural gas as illustrated in the sample labels in appendix L to this part. Labels for dual-mode refrigerator-freezers that can operate as either a refrigerator or a freezer must reflect the estimated energy cost of the model's most energy intensive configuration.

(6) Unless otherwise indicated in this paragraph, ranges of comparability for estimated annual operating costs or thermal efficiencies, as applicable, are found in the appropriate appendices accompanying this part.

(7) Placement of the labeled product on the scale shall be proportionate to the lowest and highest estimated annual operating costs or thermal efficiencies, as applicable.

(8) Labels for refrigerators, refrigerator-freezers, freezers, dishwashers, clothes washers, and water heaters must contain the model's estimated annual energy consumption as determined in accordance with § 305.5 and as indicated on the sample labels in appendix L to this part. Labels for room air conditioners, portable air conditioners, and pool heaters must contain the model's energy efficiency rating or thermal efficiency, as applicable, as determined in accordance with § 305.5 and as indicated on the sample labels in appendix L to this part. Labels for dual-mode refrigerator-freezers that can operate as either a refrigerator or a freezer must reflect the estimated energy cost of the model's most energy intensive configuration.

(9) Labels must contain a statement as illustrated in the prototype labels in appendix L to this part and specified as follows by product type:

(i) Labels for refrigerators and refrigerator-freezers must contain a statement as illustrated in the prototype labels in appendix L to this part and specified as follows (fill in the blanks with the appropriate year and energy cost figures):

Your cost will depend on your utility rates and use.

Both cost ranges based on models of similar size capacity.

[Insert statement required by § 305.11(f)(9)(iii)].

Estimated energy cost is based on a national average electricity cost of _cents per kWh. ftc.gov/energy.

(ii) For refrigerators, refrigerator-freezers, and freezers manufactured on or after September 15, 2014 and clothes washers manufactured after March 7, 2015, the label shall contain the text and graphics illustrated in sample labels 1 and 2 of appendix L to this part, including the statement:

Compare only to other labels with yellow numbers.

Labels with yellow numbers are based on the same test procedures.

(iii) For refrigerators and refrigerator-freezers, the following sentence shall be included as part of the statement required by § 305.11(f)(9)(i):

(A) For models covered under appendix A1 to this part, the sentence shall read:

Models with similar features have no freezer and automatic defrost.

(B) For models covered under appendix A2 to this part, the sentence shall read:

Models with similar features have manual defrost.

(C) For models covered under appendix A3 to this part, the sentence shall read:

Models with similar features have partial automatic defrost.

(D) For models covered under appendix A4 to this part, the sentence shall read:

Models with similar features have automatic defrost, top-mounted freezer, and no through-the-door ice.

(E) For models covered under appendix A5 to this part, the sentence shall read:

Models with similar features have automatic defrost, side-mounted freezer, and no through-the-door ice.

(F) For models covered under appendix A6 to this part, the sentence shall read:

Models with similar features have automatic defrost, bottom-mounted freezer, and no through-the-door ice.

(G) For models covered under appendix A7 to this part, the sentence shall read:

Models with similar features have automatic defrost, bottom-mounted freezer through-the-door ice.

(H) For models covered under appendix A8 to this part, the sentence shall read:

Models with similar features have automatic defrost, side-mounted freezer, and through-the-door ice.

(iv) Labels for freezers must contain a statement as illustrated in the prototype labels in appendix L to this part and specified as follows (fill in the blanks with the appropriate year and energy cost figures):

Your cost will depend on your utility rates and use.

[Insert statement required by § 305.11(f)(10)(v).]

Estimated energy cost is based on a national average electricity cost of _ cents per kWh.ftc.gov/energy.

(v) For freezers, the following sentence shall be included as part of the statement required by § 305.11(f)(9)(iv):

(A) For models covered under appendix B1 to this part, the sentence shall read:

Cost range based only on upright freezer models of similar capacity with manual defrost.

(B) For models covered under appendix B2 to this part, the sentence shall read:

Cost range based only on upright freezer models of similar capacity with automatic defrost.

(C) For models covered under appendix B3 to this part, the sentence shall read:

Cost range based only on chest and other freezer models of similar capacity.

(vi) For room air conditioners covered under appendix E to this part, the statement will read as follows (fill in the blanks with the appropriate model type, year, energy type, and energy cost figure):

Your costs will depend on your utility rates and use.

Cost range based only on models [of similar capacity without reverse cycle and with louvered sides; of similar capacity without reverse cycle and without louvered sides; with reverse cycle and with louvered sides; or with reverse cycle and without louvered sides]. Estimated annual energy cost is based on a national average electricity cost of _ cents per kWh and a seasonal use of 8 hours use per day over a 3 month period.

For more information, visit www.ftc.gov/energy.

(vii) For water heaters covered by appendices D1, D2, and D3 to this part, the statement will read as follows (fill in the blanks with the appropriate fuel type, year, and energy cost figures):

Your costs will depend on your utility rates and use.

Cost range based only on models of similar tank size ([40 gallons or less, between 40 and 55 gallons, or 55 gallons or more]), fueled by [natural gas, oil, propane, or electricity], and a [very small, low, medium, or large] hourly hot water output ([_-_] gallons).

Estimated energy cost is based on a national average [electricity, natural gas, propane, or oil] cost of [_ cents per kWh or $_ per therm or gallon].

Estimated yearly energy use: ___ [kWh or therms]

* Also known as First Hour Rating.

ftc.gov/energy.

(viii) For instantaneous water heaters (appendix D4 to this part), the statement will read as follows (fill in the blanks with the appropriate model type, the operating cost, the year, and the energy cost figures):

Your costs will depend on your utility rates and use.

Cost range based only on instantaneous gas water heater models with a [very small, low, medium, or large] gallons per minute ([_-_] gallons).

Estimated energy cost is based on a national average [electricity, natural gas, or propane] cost of [_ cents per kWh or $_ per therm or gallon].

For more information, visit www.ftc.gov/energy.

(ix) For dishwashers covered by appendices C1 and C2 to this part, the statement will read as follows (fill in the blanks with the appropriate appliance type, the energy cost, the number of loads per week, the year, and the energy cost figures):

Your costs will depend on your utility rates and use.

Cost range based only on [compact/standard] capacity models.

Estimated energy cost is based on 4 washloads a week, and a national average electricity cost of _ cents per kWh and natural gas cost of $_ per therm.

For more information, visit www.ftc.gov/energy.

(x) For clothes washers covered by appendices F1 and F2 to this part, the statement will read as follows (fill in the blanks with the appropriate appliance type, the energy cost, the number of loads per week, the year, and the energy cost figures):

Your costs will depend on your utility rates and use.

Cost range based only on [compact/standard] capacity models.

Estimated energy cost is based on 8 washloads a week and a national average electricity cost of _ cents per kWh and natural gas cost of $_ per therm.

For more information, visit www.ftc.gov/energy.

(xi) For pool heaters covered under appendices J1 and J2 to this part, the statement will read as follows:

Efficiency range based only on models fueled by [natural gas or oil].

For more information, visit www.ftc.gov/energy.

6. Amend § 305.12 by revising paragraphs (f)(2), (f)(3), (f)(14), and (g) to read as follows:

§ 305.12 Labeling for central air conditioners, heat pumps, and furnaces.

* * * * *

(f) * * *

(2) Name of manufacturer or private labeler shall, in the case of a corporation, be deemed to be satisfied only by the actual corporate name, which may be preceded or followed by the name of the particular division of the corporation. In the case of an individual, partnership, or association, the name under which the business is conducted shall be used. Inclusion of the name of the manufacturer or private labeler is optional at the discretion of the manufacturer or private labeler.

(3) The model's basic model number. The label may include multiple model numbers on a single label for models as long as the models share the same efficiency ratings and capacities.

* * * * *

(14) Manufacturers of models that qualify as both furnaces and central air conditioners or heat pumps under DOE requirements may combine the disclosures required by this section on one label for models that meet all applicable DOE regional efficiency standards.

(g) Content of central air conditioner labels: Content of labels for central air conditioners and heat pumps. (1) Headlines and texts, as illustrated in the prototype and sample labels in appendix L to this part.

(2) Name of manufacturer or private labeler shall, in the case of a corporation, be deemed to be satisfied only by the actual corporate name, which may be preceded or followed by the name of the particular division of the corporation. In the case of an individual, partnership, or association, the name under which the business is conducted shall be used. Inclusion of the name of the manufacturer or private labeler is optional at the discretion of the manufacturer or private labeler.

(3) The model's basic model number. The label may include multiple model numbers on a single label for models as long as the models share the same efficiency ratings and capacities.

(4) The model's capacity. Inclusion of capacity is optional at the discretion of the manufacturer or private labeler for all models except split-system labels, which may not disclose capacity.

(5) The seasonal energy efficiency ratio (SEER) for the cooling function of central air conditioners as determined in accordance with § 305.5. For the heating function, the heating seasonal performance factor (HSPF) shall be calculated for heating Region IV for the standardized design heating requirement nearest the capacity measured in the High Temperature Test in accordance with § 305.5. In addition, as illustrated in the sample labels 7 and 8 in appendix L to this part, the ratings for any split-system condenser evaporator coil combinations shall be the minimum rating of all condenser-evaporator coil combinations certified to the Department of Energy pursuant to 10 CFR part 430.

(6)(i) Each cooling-only central air conditioner label shall contain a range of comparability consisting of the lowest and highest SEER for all cooling-only central air conditioners consistent with sample label 7A in appendix L to this part.

(ii) Each heat pump label, except as noted in paragraph (g)(6)(iii) of this section, shall contain two ranges of comparability. The first range shall consist of the lowest and highest seasonal energy efficiency ratios for the cooling side of all heat pumps consistent with sample label 8 in appendix L to this part. The second range shall consist of the lowest and highest heating seasonal performance factors for the heating side of all heat pumps consistent with sample label 8 in appendix L to this part.

(iii) Each heating-only heat pump label shall contain a range of comparability consisting of the lowest and highest heating seasonal performance factors for all heating-only heat pumps following the format of sample label 8 in appendix L to this part.

(7) Placement of the labeled product on the scale shall be proportionate to the lowest and highest efficiency ratings forming the scale.

(8) The following statement shall appear on the label in bold print as indicated in the sample labels in appendix L to this part.

For energy cost info, visit productinfo.energy.gov.

(9) All labels on split-system condenser units must contain one of the following three statements:

(i) For labels disclosing only the seasonal energy efficiency ratio for cooling, the statement should read:

This system's efficiency rating depends on the coil your contractor installs with this unit. Ask for details.

(ii) For labels disclosing both the seasonal energy efficiency ratio for cooling and the heating seasonal performance factor for heating, the statement should read:

This system's efficiency ratings depend on the coil your contractor installs with this unit. The heating efficiency rating will vary slightly in different geographic regions. Ask your contractor for details.

(iii) For labels disclosing only the heating seasonal performance factor for heating, the statement should read:

This system's efficiency rating depends on the coil your contractor installs with this unit. The efficiency rating will vary slightly in different geographic regions. Ask your contractor for details.

(10) The following statement shall appear at the top of the label as illustrated in the sample labels in appendix L to this part:

Federal law prohibits removal of this label before consumer purchase.

(11) For any single-package air conditioner with a minimum Energy Efficiency Ratio (EER) of at least 11.0, any split system central air conditioner with a rated cooling capacity of at least 45,000 Btu/h and minimum efficiency ratings of at least 14 SEER and 11.7 EER, and any split-system central air conditioners with a rated cooling capacity less than 45,000 Btu/h and minimum efficiency ratings of at least 14 SEER and 12.2 EER, the label must contain the following regional standards information:

(i) A statement that reads: Notice Federal law allows this unit to be installed in all U.S. states and territories.

(ii) For split systems, a statement that reads:

Energy Efficiency Ratio (EER): The installed system's minimum EER is _.

(iii) For single-package air conditioners, a statement that reads:

Energy Efficiency Ratio (EER): This model's EER is [_].

(12) For any split system central air conditioner with a rated cooling capacity of at least 45,000 Btu/h and minimum efficiency ratings of at least 14 SEER but lower than 11.7 EER, and any split-system central air conditioners with a rated cooling capacity less than 45,000 Btu/h and minimum efficiency ratings of at least 14 SEER but lower than 12.2 EER.

(i) A statement that reads:

Notice Federal law allows this unit to be installed only in: AK, AL, AR, CO, CT, DC, DE, FL, GA, HI, ID, IL, IA, IN, KS, KY, LA, MA, ME, MD, MI, MN, MO, MS, MT, NC, ND, NE., NH, NJ, NY, OH, OK, OR, PA, RI, SC, SD, TN, TX, UT, VA, VT, WA, WV, WI, WY and U.S. territories. Federal law prohibits installation of this unit in other states.

(ii) A map and accompanying text as illustrated in the sample label 7A in appendix L.

(iii) For split-system air conditioner systems, a statement that reads Energy Efficiency Ratio (EER): The installed system's minimum EER is _.

(13) For any split system central air conditioner with a minimum rated efficiency rating less than 14 SEER:

(i) A statement that reads:

Notice Federal law allows this unit to be installed only in: AK, CO, CT, ID, IL, IA, IN, KS, MA, ME, MI, MN, MO, MT, ND, NE., NH, NJ, NY, OH, OR, PA, RI, SD, UT, VT, WA, WV, WI, WY, and U.S. Territories. Federal law prohibits installation of this unit in other states.

(ii) A map and accompanying text as illustrated in the sample label 8 in appendix L.

(iii) For split-system air conditioner systems, a statement that reads:

Energy Efficiency Ratio (EER): The installed system's minimum EER is _.

(14) For any single-package air conditioner with a minimum EER below 11.0, the label must contain the following regional standards information consistent with sample label 7A in appendix L to this part:

(i) A statement that reads:

Notice Federal law allows this unit to be installed only in: AK, AL, AR, CO, CT, DC, DE, FL, GA, HI, ID, IL, IA, IN, KS, KY, LA, MA, ME, MD, MI, MN, MO, MS, MT, NC, ND, NE., NH, NJ, NY, OH, OK, OR, PA, RI, SC, SD, TN, TX, UT, VA, VT, WA, WV, WI, WY and U.S. territories. Federal law prohibits installation of this unit in other states.

(ii) A map and accompanying text as illustrated in the sample label 7A in appendix L to this part.

(15) No marks or information other than that specified in this part shall appear on or directly adjoining this label except that:

(i) A part or publication number identification may be included on this label, as desired by the manufacturer. If a manufacturer elects to use a part or publication number, it must appear in the lower right-hand corner of the label and be set in 6-point type or smaller.

(ii) The energy use disclosure labels required by the governments of Canada or Mexico may appear directly adjoining this label, as desired by the manufacturer.

(iii) The manufacturer may include the ENERGY STAR logo on the label for certified products in a location consistent with the sample labels in appendix L to this part. The logo must be no larger than 1 inch by 3 inches in size. Only manufacturers that have signed a Memorandum of Understanding with the Department of Energy or the Environmental Protection Agency may add the ENERGY STAR logo to labels on qualifying covered products; such manufacturers may add the ENERGY STAR logo to labels only on those covered products that are contemplated by the Memorandum of Understanding.

7. Revise § 305.13(a) to read as follows:

§ 305.13 Labeling for ceiling fans.

(a) Ceiling fans—(1) Content. Any covered product that is a ceiling fan shall be labeled clearly and conspicuously on the package's principal display panel with the following information on the label consistent with the sample label in appendix L to this part:

(i) Headlines, including the title “EnergyGuide,” and text as illustrated in the sample labels in appendix L to this part;

(ii) The product's estimated yearly energy cost based on 6 hours use per day and 12 cents per kWh;

(iii) The product's airflow at high speed expressed in cubic feet per minute and determined pursuant to § 305.5;

(iv) The product's energy use at high speed expressed in watts and determined pursuant to § 305.5 of this part as indicated in the sample label in appendix L of this part;

(v) The statement “Your cost depends on rates and use”;

(vi) The statement “All estimates at high speed, excluding lights”;

(vii) The statement “the higher the airflow, the more air the fan will move;”

(viii) The statement “Airflow Efficiency: __ Cubic Feet Per Minute Per Watt”;

(ix) The address ftc.gov/energy;

(x) For fans fewer than 49 inches in diameter, the label shall display a cost range for 36” to 48” ceiling fans of $2 to $53;

(xi) For fans 49 inches or more in diameter, the label shall display a cost range for 49” to 60” ceiling fans of $3 to $29; and

(xii) The ENERGY STAR logo as illustrated on the ceiling fan label illustration in Appendix L for qualified products, if desired by the manufacturer. Only manufacturers that have signed a Memorandum of Understanding with the Department of Energy or the Environmental Protection Agency may add the ENERGY STAR logo to labels on qualifying covered products; such manufacturers may add the ENERGY STAR logo to labels only on those products that are covered by the Memorandum of Understanding;

(2) Label size, color, and text font. The label shall be four inches wide and three inches high. The label colors shall be process black text on a process yellow background. The text font shall be Arial or another equivalent font. The label's text size, format, content, and the order of the required disclosures shall be consistent with the ceiling fan label illustration of appendix L to this part.

(3) Placement. The ceiling fan label shall be printed on or affixed to the principal display panel of the product's packaging.

(4) Additional information. No marks or information other than that specified in this part shall appear on this label, except a model name, number, or similar identifying information.

8. Revise § 305.14 to read as follows:

§ 305.14 Energy information disclosures for heating and cooling equipment.

(a) The following provisions apply to any covered central air conditioner, heat pump, or furnace.

(1) Manufacturer duty to provide labels. For any covered central air conditioner, heat pump, or furnace model that a manufacturer distributes in commerce, the manufacturer must make a copy of the EnergyGuide label available on a publicly accessible Web site in a manner that allows catalog sellers and consumers to hyperlink to the label or download it for their use. The labels must remain on the Web site for six months after the manufacturer ceases the model's production.

(2) Distribution. (i) Manufacturers and private labelers must provide to distributors and retailers, including assemblers, EnergyGuide labels for covered central air conditioners, heat pumps, and furnaces (including boilers) they sell to them. The label may be provided in paper or electronic form (including Internet-based access). Distributors must give this information to retailers, including assemblers, they supply.

(ii) Retailers, including assemblers, who sell covered central air conditioners, heat pumps, and furnaces (including boilers) to consumers must show the labels for the products they offer to customers and let them read the labels before the customers agree to purchase the product. For example, the retailer may display labeled units in their store or direct consumers to the labels in a binder or computer at a counter or service desk.

(iii) Retailers, including installers and assemblers, who negotiate or make sales at a place other than their regular places of business, including sales over the telephone or through electronic communications, must show the labels for the products they offer to customers and let them read the labels before the customers agree to purchase the product. If the labels are on a Web site, retailers, including assemblers, who negotiate or make sales at a place other than their regular places of business, may choose to provide customers with instructions to access such labels in lieu of showing them a paper version of the information. Retailers who choose to use the Internet for the required label disclosures must provide customers the opportunity to read such information prior to sale of the product.

(3) Oil furnace labels. If an installer installs an oil furnace with an input capacity different from that set by the manufacturer and the manufacturer identifies alternative capacities on the label, the installer must permanently mark the appropriate box on the EnergyGuide label displaying the installed input capacity and the associated AFUE as illustrated in sample label 9B in appendix L to this part.

§ 305.16 [Amended]

9. In § 305.16, revise all references to “A112.18.1M” and “A112.19.2M” to read “A112.18.1” and “A112.19.2” respectively wherever they appear.

10. Revise appendix A1 to part 305 to read as follows:

Appendix A1 to Part 305—Refrigerators With Automatic Defrost

Range Information
Manufacturer's rated total refrigerated volume in cubic feet | Range of estimated annual operating costs (dollars/year): Low | Range of estimated annual operating costs (dollars/year): High
Less than 10.5 | $32 | $35
10.5 to 12.4 | 35 | 35
12.5 to 14.4 | 33 | 33
14.5 to 16.4 | 46 | 46
16.5 to 18.4 | 34 | 40
18.5 to 20.4 | 39 | 40
20.5 to 22.4 | 37 | 44
22.5 to 24.4 | 45 | 50
24.5 to 26.4 | (*) | (*)
26.5 to 28.4 | (*) | (*)
28.5 and over | (*) | (*)
* No data submitted.

11. Revise appendix A2 to part 305 to read as follows:

Appendix A2 to Part 305—Refrigerators and Refrigerator-Freezers With Manual Defrost

Range Information
Manufacturer's rated total refrigerated volume in cubic feet | Range of estimated annual operating costs (dollars/year): Low | Range of estimated annual operating costs (dollars/year): High
Less than 10.5 | $24 | $32
10.5 to 12.4 | 38 | 38
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)
* No data submitted.

12. Revise appendix A3 to part 305 to read as follows:

Appendix A3 to Part 305—Refrigerator-Freezers With Partial Automatic Defrost

Range Information
Manufacturer's rated total refrigerated volume in cubic feet | Range of estimated annual operating costs (dollars/year): Low | Range of estimated annual operating costs (dollars/year): High
Less than 10.5 | $26
10.5 to 12.4 | (*) | $44
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)
* No data submitted.

13. Revise appendix A4 to part 305 to read as follows:

Appendix A4 to Part 305—Refrigerator-Freezers With Automatic Defrost With Top-Mounted Freezer Without Through-the-Door Ice Service

Range Information
Manufacturer's rated total refrigerated volume in cubic feet | Range of estimated annual operating costs (dollars/year): Low | Range of estimated annual operating costs (dollars/year): High
Less than 10.5 | $36 | $43
10.5 to 12.4 | 30 | 51
12.5 to 14.4 | 40 | 55
14.5 to 16.4 | 40 | 57
16.5 to 18.4 | 43 | 59
18.5 to 20.4 | 40 | 62
20.5 to 22.4 | 46 | 63
22.5 to 24.4 | 56 | 66
24.5 to 26.4 | (*) | (*)
26.5 to 28.4 | (*) | (*)
28.5 and over | (*) | (*)
* No data submitted.

14. Revise appendix A5 to part 305 to read as follows:

Appendix A5 to Part 305—Refrigerator-Freezers With Automatic Defrost With Side-Mounted Freezer Without Through-the-Door Ice Service

Range Information
Manufacturer's rated total refrigerated volume in cubic feet | Range of estimated annual operating costs (dollars/year): Low | Range of estimated annual operating costs (dollars/year): High
Less than 10.5 | $41 | $69
10.5 to 12.4 | (*) | (*)
12.5 to 14.4 | (*) | (*)
14.5 to 16.4 | (*) | (*)
16.5 to 18.4 | (*) | (*)
18.5 to 20.4 | 63 | 86
20.5 to 22.4 | 82 | 90
22.5 to 24.4 | 69 | 93
24.5 to 26.4 | 96 | 96
26.5 to 28.4 | 71 | 71
28.5 and over | 89 | 101
* No data submitted.

15. Revise appendix A6 to part 305 to read as follows:

Appendix A6 to Part 305—Refrigerator-Freezers With Automatic Defrost With Bottom-Mounted Freezer Without Through-the-Door Ice Service

Range Information
Manufacturer's rated total refrigerated volume in cubic feet | Range of estimated annual operating costs (dollars/year): Low | Range of estimated annual operating costs (dollars/year): High
Less than 10.5 | $41 | $62
10.5 to 12.4 | 43 | 53
12.5 to 14.4 | 45 | 65
14.5 to 16.4 | 49 | 72
16.5 to 18.4 | 53 | 73
18.5 to 20.4 | 54 | 75
20.5 to 22.4 | 58 | 79
22.5 to 24.4 | 63 | 83
24.5 to 26.4 | 64 | 81
26.5 to 28.4 | 77 | 84
28.5 and over | 65 | 81

16. Revise appendix A7 to part 305 to read as follows:

Appendix A7 to Part 305—Refrigerator-Freezers With Automatic Defrost With Bottom-Mounted Freezer With Through-the-Door Ice Service

Range Information
Manufacturer's rated total refrigerated volume in cubic feet | Range of estimated annual operating costs (dollars/year): Low | Range of estimated annual operating costs (dollars/year): High
Less than 10.5 | $27 | $30
10.5 to 12.4 | (*) | (*)
12.5 to 14.4 | (*) | (*)
14.5 to 16.4 | (*) | (*)
16.5 to 18.4 | (*) | (*)
18.5 to 20.4 | 83 | 83
20.5 to 22.4 | 77 | 87
22.5 to 24.4 | 80 | 90
24.5 to 26.4 | 76 | 93
26.5 to 28.4 | 74 | 95
28.5 and over | 78 | 95
(*) No data submitted.

17. Revise appendix A8 to part 305 to read as follows:

Appendix A8 to Part 305—Refrigerator-Freezers With Automatic Defrost With Side-Mounted Freezer With Through-the-Door Ice Service

Range Information
Manufacturer's rated total refrigerated volume in cubic feet | Range of estimated annual operating costs (dollars/year): Low | Range of estimated annual operating costs (dollars/year): High
Less than 10.5 | $65 | $65
10.5 to 12.4 | (*) | (*)
12.5 to 14.4 | 65 | 65
14.5 to 16.4 | (*) | (*)
16.5 to 18.4 | (*) | (*)
18.5 to 20.4 | 78 | 94
20.5 to 22.4 | 72 | 93
22.5 to 24.4 | 81 | 98
24.5 to 26.4 | 76 | 99
26.5 to 28.4 | 85 | 104
28.5 and over | 82 | 107
* No data submitted.

18. Revise appendix A9 to part 305 to read as follows:

Appendix A9 to Part 305—All Refrigerators And Refrigerator-Freezers

Range Information
Manufacturer's rated total refrigerated volume in cubic feet | Range of estimated annual operating costs (dollars/year): Low | Range of estimated annual operating costs (dollars/year): High
Less than 10.5 | $24 | 69
10.5 to 12.4 | 30 | 53
12.5 to 14.4 | 33 | 65
14.5 to 16.4 | 40 | 72
16.5 to 18.4 | 34 | 73
18.5 to 20.4 | 39 | 94
20.5 to 22.4 | 37 | 93
22.5 to 24.4 | 45 | 98
24.5 to 26.4 | 71 | 99
26.5 to 28.4 | 71 | 104
28.5 and over | 65 | 107

19. Revise appendix B1 to part 305 to read as follows:

Appendix B1 to Part 305—Upright Freezers With Manual Defrost

Range Information
Manufacturer's rated total refrigerated volume in cubic feet | Range of estimated annual operating costs (dollars/year): Low | Range of estimated annual operating costs (dollars/year): High
Less than 5.5 | $26 | $36
5.5 to 7.4 | 38 | 38
7.5 to 9.4 | 30 | 30
9.5 to 11.4 | 31 | 31
11.5 to 13.4 | 38 | 38
13.5 to 15.4 | 40 | 40
15.5 to 17.4 | 43 | 43
17.5 to 19.4 | (*) | (*)
19.5 to 21.4 | 48 | 48
21.5 to 23.4 | (*) | (*)
23.5 to 25.4 | (*) | (*)
25.5 to 27.4 | (*) | (*)
27.5 to 29.4 | (*) | (*)
29.5 and over | (*) | (*)
* No data submitted.

20. Revise appendix B2 to part 305 to read as follows:

Appendix B2 to Part 305—Upright Freezers With Automatic Defrost

Range Information
Manufacturer's rated total refrigerated volume in cubic feet | Range of estimated annual operating costs (dollars/year): Low | Range of estimated annual operating costs (dollars/year): High
Less than 5.5 | $36 | $53
5.5 to 7.4 | (*) | (*)
7.5 to 9.4 | 53 | 56
9.5 to 11.4 | (*) | (*)
11.5 to 13.4 | 67 | 67
13.5 to 15.4 | 47 | 73
15.5 to 17.4 | 52 | 68
17.5 to 19.4 | 54 | 81
19.5 to 21.4 | 57 | 73
21.5 to 23.4 | 81 | 87
23.5 to 25.4 | (*) | (*)
25.5 to 27.4 | (*) | (*)
27.5 to 29.4 | (*) | (*)
29.5 and over | (*) | (*)
* No data submitted.

21. Revise appendix B3 to part 305 to read as follows:

Appendix B3 to Part 305—Chest Freezers and All Other Freezers

Range Information
Manufacturer's rated total refrigerated volume in cubic feet | Range of estimated annual operating costs (dollars/year): Low | Range of estimated annual operating costs (dollars/year): High
Less than 5.5 | $20 | $26
5.5 to 7.4 | 25 | 37
7.5 to 9.4 | 31 | 38
9.5 to 11.4 | 30 | 33
11.5 to 13.4 | 35 | 39
13.5 to 15.4 | 38 | 57
15.5 to 17.4 | 38 | 38
17.5 to 19.4 | (*) | (*)
19.5 to 21.4 | 46 | 51
21.5 to 23.4 | 49 | 55
23.5 to 25.4 | 55 | 61
25.5 to 27.4 | (*) | (*)
27.5 to 29.4 | (*) | (*)
29.5 and over | (*) | (*)
(*) No data submitted.

22. Amend appendix L by revising sample labels 1A, 5, and 17 to read as follows:

Appendix L to Part 305—Sample Labels

* * * * *

BILLING CODE 6750-01-P

* * * * *

* * * * *

* * * * *

By direction of the Commission.
Donald S. Clark,
Secretary.

[FR Doc. 2015-27773 Filed 10-30-15; 8:45 am]

BILLING CODE 6750-01-C